DEPARTMENT OF EDUCATION

Applications for New Awards; National Vocational Rehabilitation Technical Assistance Center

AGENCY: Office of Special Education and Rehabilitative Services, Department of Education.

ACTION: Notice.

SUMMARY: The U.S. Department of Education (Department) is issuing a notice inviting applications (NIA) for fiscal year (FY) 2025 for the National Vocational Rehabilitation Technical Assistance Center (NVRTAC).

DATES:

Applications Available: June 20, 2025.

Application Deadline: July 25, 2025.

Deadline for Intergovernmental Review: September 23, 2025.

Date of Pre-Application Meeting: OSERS will provide resources specific to this competition, which will be available at https://ncrtm.ed.gov/RSAGrantInfo.aspx. OSERS invites you to send questions to 84.264L@ed.gov.

ADDRESSES: For the addresses for obtaining and submitting an application, please refer to our Common Instructions for Applicants to Department of Education Discretionary Grant Programs, published in the Federal Register on December 23, 2024 (89 FR 104528) and available at https://www.federalregister.gov/d/2024-30488.

FOR FURTHER INFORMATION CONTACT: Roslyn Thomas, U.S. Department of Education, 400 Maryland Avenue SW, Room 4A10, Washington, DC 20202-2800. Telephone: (202) 987-0105. Email: 84.264L@ed.gov.

If you are deaf, hard of hearing, or have a speech disability and wish to access telecommunications relay services, please dial 7-1-1.

SUPPLEMENTARY INFORMATION:

Full Text of Announcement

Funding Opportunity Description

Purpose of Program: The purpose of this program is to provide competitive grants, including cooperative agreements, to, or enter into contracts with, eligible entities to expand and improve the provision of vocational rehabilitation (VR) and other services authorized under the Rehabilitation Act of 1973 (Rehabilitation Act) or to further the purposes and policies in sections 2(b) and (c) of the Rehabilitation Act by supporting activities that increase the provision, extent, availability, scope, and quality of rehabilitation services under the Act. Under the Rehabilitation Act, the Rehabilitation Services Administration (RSA) Commissioner is authorized to make grants to, and enter into contracts with States and public or nonprofit agencies and organizations (including institutions of higher education (IHEs)) to support projects that assist state and other agencies in providing VR and other services to individuals with disabilities to maximize their employment, independence, and integration into the community and the competitive labor market, and provide training and technical assistance designed to assist in increasing the numbers of, and upgrading the skills of, qualified personnel (especially rehabilitation counselors) who are trained in providing VR services as well as other services authorized under the Rehabilitation Act.

Assistance Listing Number: 84.264L.

OMB Control Number: 1894-0006.

Eligible Applicants: States and public or private nonprofit agencies and organizations, including Indian Tribes and institutions of higher education.

Type of Award: Discretionary grant negotiated as cooperative agreement.

Estimated Available Funds: $6,000,000.

Maximum Award: We will not make an award exceeding $6,000,000 for a single budget period of 12 months.

Note: The Department is not bound by any estimates in this notice.

Estimated Number of Awards: One.

Project Period: Up to 60 months.

Absolute Priority: This competition includes one absolute priority. The priority is from the notice of final priorities, requirements, and definitions for this program published elsewhere in this issue of the Federal Register (NFP). We consider only applications that meet this priority.

Absolute Priority: National Vocational Rehabilitation Technical Assistance Center

The purpose of this priority is to fund a cooperative agreement to establish a National Vocational Rehabilitation Technical Assistance Center (NVRTAC).

The NVRTAC will provide intensive training and technical assistance, targeted training and technical assistance, and universal training and technical assistance to State VR agencies that will enable VR agencies to improve VR program management and performance and, most importantly, to improve employment outcomes achieved by individuals with disabilities.

Regarding program management and performance, the NVRTAC's training and technical assistance will support the assessment, development, and enhancement of VR State agency leaders and staff knowledge, skills, and abilities to improve service delivery and employment outcomes for individuals with disabilities and to perform the following functions:

(a) Implementing State VR agency-level best practices and policies for maximizing engagement and achieving Competitive Integrated Employment (CIE) for individuals with disabilities. The center will provide VR agency personnel with technical assistance on evaluating whether the management strategies they adopt have been shown to increase the percentage of participants who achieve an MSG/credential and exit the program with an employment outcome and modifying those strategies, if necessary, to achieve continuous program improvement. The NVRTAC will provide intensive training and technical assistance, targeted training and technical assistance, and universal training and technical assistance to State VR agencies to improve or develop a broad range of management policies and practices, both programmatic and fiscal, to address needs common to many agencies;

(b) Disseminating clear, consistent messages on RSA priorities for the development and implementation of sound management and financial systems and strong internal controls;

(c) Identifying strengths and weaknesses in the agency's capacity to understand factors affecting program effectiveness and timeliness (such as the ability to analyze case service data to identify trends and disparities in employment outcomes achieved by various groups of individuals with disabilities) and designing management strategies to address these deficits;

(d) Analyzing the VR agency's human resource management for inclusion of best practice for recruitment, retention, and onboarding strategies including orientation training for new VR agency directors;

(e) Understanding statutory and regulatory requirements related to performance management, including calculations for the common performance measures required under the Workforce Innovation and Opportunity Act (WIOA);

(f) Monitoring and improving financial and program data reporting and accuracy;

(g) Conducting performance evaluation and quality assurance improvement activities, including the use of data for performance management systems and the implementation of the common performance measures required by WIOA;

(h) Conducting strategic planning and implementing the strategies to address aspects of a strengths, weaknesses, opportunities, and threats (SWOT) assessment that pose challenges and barriers to improving service delivery and employment outcomes for individuals with disabilities, including those with significant and the most significant disabilities, and students and youth with disabilities;

(i) Developing and implementing effective and efficient program and fiscal policies for delivering pre-employment transition services under section 113, VR services under section 103(a), and supported employment services under title VI of the Rehabilitation Act;

(j) Implementing proactive strategies for the State VR agency to collaborate and engage with educational agencies, Centers for Independent Living, American Indian Vocational Rehabilitation agencies, and community rehabilitation programs;

(k) Implementing strategies to maximize timely and meaningful engagement of VR clients during application and eligibility determination, career planning, development of the Individualized Plan for Employment (IPE), and service delivery;

(l) Accurately addressing the required descriptions in the VR services portion of the WIOA Unified or Combined State Plan, particularly in setting goals and strategies that can improve performance;

(m) Coordinating efforts with the State Rehabilitation Council;

(n) Developing relationships with public policymakers and optimizing the VR agency's presence and visibility by marketing the program in accordance with the requirements in the Guidance for Federal Financial Assistance at 2 CFR 200.467 and RSA guidance;

(o) Understanding the key resource management elements, including but not limited to financial management, human resources management, and program management and their relevance to important VR program outcomes and various cost containment measures, such as implementing an order of selection giving priority for services to individuals with the most significant disabilities, assessing the need for and impact of implementing a financial needs test and cost participation in services, and implementing the requirement to seek comparable services and benefits for certain services, among others; and

(p) Resolving corrective action plans and strategies to increase compliance and reduce future noncompliance.

Regarding effective resource management, the NVRTAC will support the assessment, development, and enhancement of staff knowledge, skills, and abilities to ensure that—

(a) Resources, including program funds and personnel, are being used for allowable purposes, are appropriately allocated, and support innovation in compliance with statutory and regulatory requirements;

(b) Internal controls and reporting systems upon which State VR agencies base fiscal and programmatic forecasting and decision-making are improved and reliable to support attainment of program goals and objectives; and

(c) Resources, including program funds and personnel, are fully used in ways that meet existing program needs, priorities, and expected employment outcomes for individuals with disabilities.

The following are TA project activities the NVRTAC will undertake to address weaknesses in resource management:

(a) Assess performance of grantees' financial management processes used to support attainment of fiscal and programmatic outcomes (for example, whether an agency's fiscal processes support the accurate tracking and reporting of non-Federal funds to maximize the drawdown of Federal award funds to support attainment of employment outcomes); and use the assessment to identify areas for improvement in fiscal processes that will assist the agency in meeting program goals.

(b) Assess personnel training and technical assistance needs to identify gaps in fiscal knowledge, skills, and abilities that prevent the agency from the effective and efficient use of resources necessary to achieve employment outcomes.

(c) Provide intensive training and technical assistance on financial planning, to maximize program resources and attainment of program goals and objectives, maximize opportunities for non-Federal sources of match, avoid potential maintenance of effort deficits and match penalties, and meet the reservation of funds requirement for pre-employment transition services.

(d) Provide technical assistance on implementing Federal, State, and program fiscal requirements, including internal controls, in an efficient and effective manner to reduce unnecessary burden and to focus efforts on program outcomes.

(e) Provide technical assistance on the identification, collection, and analysis of program and fiscal data necessary for program management and maximizing available resources to plan and support consumer services.

Requirements: For FY 2025, applicants must meet the project and application requirements from the NFP.

Project Requirements

To meet the requirements of this priority, the NVRTAC must, at a minimum, conduct the following activities through innovative approaches:

(a) Establish an advisory committee for the NVRTAC. The committee members must include individuals with disabilities, representatives from State VR agencies, including business specialists, individuals with VR subject matter expertise, business representatives, community rehabilitation providers, individuals with subject matter expertise in assistive technology and advance technology for individuals with disabilities, and individuals with subject matter expertise in financial management and resources management for VR programs. The committee members will provide input and recommendations pertaining to the project design, project implementation, and the project evaluation. At a minimum, the committee should meet semi-annually.

(b) Establish a state-of-the-art NVRTAC website with information technology platform for communicating with State VR agencies and providing training and TA to state VR agencies' personnel. NVRTAC must ensure that all products produced by the NVRTAC and posted on the website have been developed in collaboration with RSA and meet government and industry-recognized standards for accessibility and security.

The website will serve as a key training and technical assistance delivery vehicle; peer-to-peer communication hub; stakeholder convening platform; and the central repository of information about technical assistance and training materials and resources developed and provided by the NVRTAC, including training modules for State VR agency leadership and VR counseling professionals, as well as for new employees onboarding resources. In addition, the system must have the capacity to track training completion or related records, as applicable.

(c) Conduct nationwide technical assistance and training needs assessment of State VR agencies' personnel during the first six months of the project. The needs assessment must include the areas of VR program management, financial and resource management, service delivery, and employment outcomes and should be informed by the following—

(1) Input from RSA staff, RSA monitoring reports, and State VR agency corrective action plans;

(2) Input from State VR agencies and workforce development partners, including community rehabilitation programs, about their needs, priorities, and innovative approaches to program and resource management that lead to improved service delivery;

(3) Information regarding the latest National trends, barriers, challenges, and opportunities; and

(4) Information regarding effective and efficient program and resource management strategies, techniques, and practices that may be applicable to State VR agencies.

(d) Develop a training and technical assistance plan. Based on the results of the needs assessment, develop an overarching training and technical assistance plan that must include, at a minimum—

(1) Management strategies and practices that result in improved service delivery and employment outcomes for individuals with disabilities, including the rationale for their selection;

(2) Conceptual framework for the selected strategies and practices, including key assumptions, expectations, and presumed relationships or linkages among strategies and practices;

(3) Nature and scope of the intensive training and technical assistance, targeted training and technical assistance, and universal training and technical assistance to be provided in support of the selected strategies and practices;

(4) Protocols and timelines for requesting, obtaining, and completing training and technical assistance; and

(5) Protocols and timelines for transitioning the State VR agency's technical assistance, upon completion of the technical assistance agreement, to the designated RSA State Liaison, when appropriate.

(e) Provide intensive training and technical assistance to State VR agencies consistent with the technical assistance plan based on a review of a wide variety of information sources, including, but not limited to, RSA's monitoring reports and corresponding State VR agency corrective action plans; State audit reports; WIOA State plans, particularly the VR portion of these State plans; RSA staff feedback; and the results of comprehensive statewide needs assessments. Intensive training and technical assistance may be provided on-site, over a specified time period, under the terms of signed intensive training and technical assistance agreements between the NVRTAC and the participating State VR agencies. Numerical targets for the number of intensive training and technical assistance agreements will be included in the cooperative agreement between RSA and the NVRTAC.

The intensive training and technical assistance agreements between the NVRTAC and the requesting State VR agencies must include the following components:

(1) Management strategies and practices to be implemented by the State VR agency that are designed to improve service delivery and maximize quality employment outcomes for individuals with disabilities.

(2) Nature and scope of the training and technical assistance to be provided by the NVRTAC. Topic areas addressed within the intensive training and technical assistance agreements may include the priority's broad management, performance, or resource management areas or the targeted and universal training and technical assistance topics in paragraph (g), below.

(3) Roles and responsibilities of the NVRTAC, State VR agency, RSA, and other workforce development partners, including the commitment of resources.

(4) Logic model (as defined in 34 CFR 77.1) that is specific to the intensive need being addressed and that includes performance outcomes, targets, and baselines; project activities, inputs, and outputs; and data collection and analysis commitments.

(f) Implement a plan for project evaluation, which includes a timeline for the evaluation and measurement benchmarks, that will evaluate the impact of the center's training and technical assistance on the performance of the VR agencies that received the center's services. As part of the evaluation plan, there must be a logic model that includes data elements, inputs, activities, outputs, and short-term and long-term performance indicators regarding—

(1) Quantitative outcomes resulting from the program management and employment strategies and practices, including—

(i) Timeliness of the VR processes and services;

(ii) Number of employment outcomes;

(iii) VR participants' employment or career-readiness;

(iv) Cost-effectiveness; and

(v) Sustainability;

(2) Quality, relevance, and usefulness of the project's training and technical assistance activities;

(3) Quantitative or qualitative insights about the relationship between strategies, practices, and training and technical assistance activities on critical outcomes for VR personnel, VR clients, and key partners, including through—

(i) Pre- and post-training assessments;

(ii) Focus groups; and

(iii) Success stories.

(g) Develop and implement models and materials for targeted and universal training and technical assistance for VR agency personnel, on state VR program and fiscal management, and employment strategies for individuals with disabilities, which must include the following—

(1) Integration of assistive technology and artificial intelligence tools to fuel CIE in the 21st century for individuals with disabilities;

(2) Career pathways education, internships, apprenticeships, training, and supports in high-demand occupations, including those in science, technology, engineering, and mathematics (STEM) fields, advanced technology;

(3) Registered and industry-recognized apprenticeships, pre-apprenticeships, and on-the-job training;

(4) Supported employment and customized employment;

(5) Customized training and credential programs to meet employers' demand;

(6) Self-employment and entrepreneurship, including services available under the Randolph-Sheppard Vending Facility Program;

(7) Business engagement and employer supports including dual customer models such as Progressive Employment;

(8) Practices to enhance the employment capacity of individuals with the most significant disabilities receiving supported employment services, such as the Individual Placement and Support model;

(9) Pre-employment transition services that prepare students with disabilities and transition services that prepare youth with disabilities to identify career interests through work-based learning and early career exploration opportunities, including career pathways, internships, and job shadowing, with a focus on high-demand and STEM careers;

(10) Career counseling techniques and resources, including labor market information tools such as Career Index Plus;

(11) Collaboration with workforce development partners, community rehabilitation programs, and other community-based organizations to provide the comprehensive support services that individuals with significant and the most significant disabilities, and students and youth with disabilities, need to succeed, such as the Integrated Resource Teams model;

(12) Approaches that encourage VR clients to consider jobs in the advanced technology fields that respond to expected labor market needs;

(13) Approaches that encourage VR clients to enter and remain engaged in the VR process, such as rapid engagement, motivational interviewing, benefits counseling, and financial empowerment training, and vehicles such as the Achieving a Better Life Experience (ABLE) tax-free accounts for individuals with disabilities and flexibilities associated with Social Security Income; and

(14) Community outreach strategies to expand the pool of potential VR applicants and referral sources.

Application Requirements

Applicants must—

(a) Provide a landscape analysis of current challenges, opportunities, and initiatives in national VR technical assistance and training. The landscape analysis must address the following:

(1) Knowledge about—

(i) State VR program challenges in performance, including barriers and trends regarding program and resource management and employment outcomes for individuals with disabilities especially those with significant and the most significant disabilities, and students and youth with disabilities, particularly as noted in recent RSA monitoring reports and State VR agency corrective action plans; and

(ii) Federal and State initiatives and best practices to improve program and resource management and employment outcomes for individuals with disabilities, particularly in response to requirements under WIOA.

(2) The proposed project's potential to contribute to these Federal and State initiatives by assisting State VR agencies in equipping personnel with the necessary skills and training to implement the substantive provisions of the Rehabilitation Act introduced by WIOA that are designed to improve the employment outcomes for individuals with disabilities.

(b) Provide an implementation plan. The implementation plan must describe the feasibility of the management plan to achieve project objectives and goals on time and within budget, including clearly defined responsibilities, timelines, and milestones for accomplishing project tasks and meeting expected outcomes.

(c) Describe the plans to establish a state-of-the-art NVRTAC website and information technology platform.

(d) Describe plans for completing the national technical assistance and training needs assessment.

(e) Specify strategies to maximize coordination between the NVRTAC and other TA centers and seek opportunities to coordinate with other training and technical assistance investments, including those funded by the U.S. Departments of Education, Labor, and Health and Human Services, in the provision of training and technical assistance to State VR agencies.

(f) Describe the proposed evaluation plan and logic model for the project.

(g) Provide a dissemination plan. The dissemination plan must describe plans to disseminate its summative findings and results at national conferences, regional forums, or specialized meetings starting after the first year of the performance period, including cost-effective approaches such as virtual convenings, to engage State VR agencies and other potential Federal, State, local, and nongovernment partners, including—

(1) Types of events (e.g., conferences, forums, specialized meetings);

(2) Target audience (e.g., by event type); and

(3) Convening modes (in-person, virtual).

Selection Criteria: The following selection criteria are from 34 CFR 75.210. In responding to the selection criteria, applications should show how the proposed project meets the absolute priority and requirements outlined in this NIA.

(a) Significance. (10 points)

(1) The Secretary considers the significance of the proposed project.

(2) In determining the significance of the proposed project, the Secretary considers the following factors:

(i) The potential contribution of the proposed project to improve the provision of rehabilitative services, increase the number or quality of rehabilitation counselors, or develop and implement effective strategies for providing vocational rehabilitation services to individuals with disabilities.

(ii) The extent to which the proposed project demonstrates that it is designed to build capacity and yield sustainable results that will extend beyond the project period.

(b) Quality of the project design. (40 points)

(1) The Secretary considers the quality of the design of the proposed project.

(2) In determining the quality of the design of the proposed project, the Secretary considers the following factors:

(i) The extent to which the goals, objectives, and outcomes to be achieved by the proposed project are clearly specified, measurable, and ambitious yet achievable within the project period, and aligned with the purposes of the grant program.

(ii) The extent to which the design of the proposed project demonstrates meaningful community engagement and input to ensure that the project is appropriate to successfully address the needs of the target population or other identified needs and will be used to inform continuous improvement strategies.

(iii) The extent to which the resources, tools, and implementation lessons of the proposed project will be disseminated in ways to the target population and local community that will enable them and others (including practitioners, researchers, education leaders, and partners) to implement similar strategies.

(iv) The extent to which the services to be provided by the proposed project involve the use of efficient strategies, including the use of technology, as appropriate, and the leveraging of non-project resources.

(c) Adequacy of resources. (10 points)

(1) The Secretary considers the adequacy of resources for the proposed project.

(2) In determining the adequacy of resources for the proposed project, the Secretary considers the following factors:

(i) The extent to which the budget is adequate to support the proposed project and the costs are reasonable in relation to the objectives, design, and potential significance of the proposed project.

(ii) The relevance and demonstrated commitment of each partner in the proposed project to the implementation and success of the project.

(d) Quality of the management plan. (30 points)

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The extent to which the project director or principal investigator, when hired, has the qualifications required for the project, including formal training or work experience in fields related to the objectives of the project and experience in designing, managing, or implementing similar projects for the target population to be served by the project.

(iii) The qualifications, including relevant training and experience, of project consultants or subcontractors.

(e) Quality of the project evaluation or other evidence-building. (10 points)

(1) The Secretary considers the quality of the evaluation or other evidence-building of the proposed project.

(2) In determining the quality of the evaluation or other evidence-building, the Secretary considers the following factors:

(i) The extent to which the methods of evaluation or other evidence-building are thorough, feasible, relevant, and appropriate to the goals, objectives, and outcomes of the proposed project.

(ii) The extent to which the methods of evaluation or other evidence-building will provide guidance for quality assurance and continuous improvement.

Performance Measures: For the purposes of Department reporting under 34 CFR 75.110, the Department has established a set of performance measures that are designed to yield information on various aspects of the effectiveness and quality of the NVRTAC. These measures are:

(a) Number and percentage of participating State VR agencies reporting improved coordination and collaboration with Federal, State, or local organizations as a result of the training and technical assistance.

(b) Number and percentage of VR agency personnel reporting that the training and technical assistance is high in quality, relevant, and useful to their work.

(c) Of State VR agencies that received training and technical assistance, the percentage change in consumers achieving an employment outcome compared to the prior year.

(d) Of State VR agencies that received training and technical assistance, the number and percentage of agencies that achieved their negotiated level of performance for the measurable skill gains indicator in the VR Program Year.

(e) The number and percentage of participating State VR agencies that adopt quality management and quality employment strategies and practices as a result of training and technical assistance provided under this grant.

Definitions

For FY 2025 and any subsequent year in which we make awards from the list of unfunded applications from this competition, the following definitions apply. The definitions for “intensive training and technical assistance,” “targeted training and technical assistance,” and “universal training and technical assistance” are from the NFP.

Intensive training and technical assistance means training and technical assistance provided to State VR agencies and State VR agency personnel, in consultation with RSA, primarily on-site for a specific issue and a set period of time negotiated between the State VR agency and NVRTAC. Intensive training and technical assistance is based on an ongoing relationship between the training and technical assistance center staff and State VR agencies and State VR agency personnel under the terms of a signed intensive training and technical assistance agreement.

Targeted training and technical assistance means training and technical assistance based on needs common to one or more State VR agencies and State VR agency personnel on a time-limited basis and with limited commitment of training and technical assistance center resources. Targeted training and technical assistance are delivered through virtual, or in-person methods tailored to the identified needs of the participating State VR agencies and State VR agency personnel.

Universal training and technical assistance means training and technical assistance broadly available to State VR agencies and State VR agency personnel and other interested parties through their own initiative, resulting in minimal interaction with training and technical assistance center staff. Universal training and technical assistance include generalized presentations, products, and related activities available through a website or through brief contacts with the training and technical assistance center staff.

Program Authority: 29 U.S.C. 772(a)(1).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385. (e) The NFP published elsewhere in this issue of the Federal Register.

Note: The regulations in 34 CFR part 79 apply to all applicants except federally recognized Indian Tribes.

Note: The regulations in 34 CFR part 86 apply to institutions of higher education only.

Cost Sharing or Matching: The Department determined that cost sharing of 10 percent of total cost of the project (i.e., based on the sum of Federal and non-Federal project costs) is required of the grantee under 84.264L. Any program income incurred during the period of performance may be directed only towards advancing activities in the approved grant application and may not be used towards the 10 percent cost share requirement. Eligible entities must identify appropriate cost share funds in the proposed budget.

Indirect Cost Rate Information: Under 34 CFR 75.562(c), an indirect cost reimbursement on a training grant is limited to the recipient's actual indirect costs, as determined by its negotiated indirect cost rate agreement, or eight percent of a modified total direct cost base, whichever amount is less. Indirect costs in excess of the limit may not be charged directly, used to satisfy matching or cost-sharing requirements, or charged to another Federal award.

Subawards: Under 34 CFR 75.708(b) and (c) a grantee under this competition may not award subgrants to entities to directly carry out project activities described in its application. Under 34 CFR 75.708(e), a grantee may contract for supplies, equipment, and other services in accordance with 2 CFR part 200.

Application and Submission Information

1. Application Submission Instructions: Applicants are required to follow the Common Instructions for Applicants to Department of Education Discretionary Grant Programs (89 FR 104528, December 23, 2024).

2. Submission of Proprietary Information: Given the types of projects that may be proposed in applications for the Innovative Rehabilitation Training competition, your application may include business information that you consider proprietary. We define “business information” and describe the process we use in determining whether any of that information is proprietary and, thus, protected from disclosure under Exemption 4 of the Freedom of Information Act.

Because we plan to make successful applications available to the public, you may wish to request confidentiality of business information.

Please designate in your application any information that you believe is exempt from disclosure under Exemption 4 of the Freedom of Information Act.

In the appropriate Appendix section of your application, under “Other Attachments Form,” please list the page number or numbers on which we can find this information.

3. Intergovernmental Review: This competition is subject to intergovernmental review under Executive Order 12372. Information about this process is in the application package.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

Note: A faith-based organization is eligible to apply for and receive a grant under this program on the same basis as any other private organization, consistent with Appendix A to 34 CFR part 75.

7. Risk Assessment and Specific Conditions: Before awarding grants under this competition the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

8. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project's period of performance, you must submit a final performance report, including financial information, as directed by the Secretary. If you receive a multiyear award, you must submit semiannual and annual performance reports that provide the most current performance and financial expenditure information as directed by the Secretary. The Secretary may also require more frequent performance reports. For specific requirements on reporting, please go to www.ed.gov/fund/grant/apply/appforms/appforms.html.

5. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Diana Diaz,
Deputy Assistant Secretary and Acting Assistant Secretary for Special Education and Rehabilitative Services.

[FR Doc. 2025-11105 Filed 6-16-25; 8:45 am]

BILLING CODE 4000-01-P